DEPARTMENT OF COMMERCE

National Institute of Standards and Technology

Announcing an Open Meeting of the Information Security and Privacy Advisory Board

AGENCY: National Institute of Standards and Technology.

ACTION: Notice.

SUMMARY: The Information Security and Privacy Advisory Board (ISPAB) will meet Wednesday, February 1, 2012, from 8 a.m. until 5 p.m., Thursday, February 2, 2012, from 8 a.m. until 5 p.m., and Friday, February 3, 2012 from 8 a.m. until 12 p.m. All sessions will be open to the public.

DATES: The meeting will be held on Wednesday, February 1, 2012, from 8 a.m. until 5 p.m., Thursday, February 2, 2012, from 8 a.m. until 5 p.m. Eastern time., and Friday, February 3, 2012 from 8 a.m. until 12 p.m. Eastern time.

ADDRESSES: The meeting will take place in the Residence Inn Washington, 1199 Vermont Avenue NW., Washington DC, 20005-3519.

FOR FURTHER INFORMATION CONTACT: Ms. Annie Sokol, Information Technology Laboratory, National Institute of Standards and Technology, 100 Bureau Drive, Stop 8930, Gaithersburg, MD 20899-8930, telephone: (301) 975-2006.

SUPPLEMENTARY INFORMATION:

Pursuant to the Federal Advisory Committee Act, 5 U.S.C. App., notice is hereby given that the Information Security and Privacy Advisory Board (ISPAB) will meet Wednesday, February 1, 2012, from 8 a.m. until 5 p.m., Thursday, February 2, 2012, from 8 a.m. until 5 p.m., and Friday, February 3, 2012 from 8 a.m. until 12 p.m. All sessions will be open to the public. The ISPAB was established by the Computer Security Act of 1987 (Pub. L. 100-235) and amended by the Federal Information Security Management Act of 2002 (Pub. L. 107-347) to advise the Secretary of Commerce and the Director of NIST on security and privacy issues pertaining to federal computer systems. Details regarding the ISPAB's activities are available at http://csrc.nist.gov/groups/SMA/ispab/index.html.

The Agenda is Expected To Include the Following Items

—Presentation relating to legislature updates,

—Panel discussion on data storage and data location,

—Panel discussion on FedRAMP—Supply Chain and Certification,

—Discussion/updates on the National Strategy for Trusted Identities in Cyberspace (NSTIC),

—Panel discussion on derived credentials,

—Presentation on DHS updates and cybersecurity strategy,

—Panel discussion on data feedback and network,

—Panel discussion/presentation on NCIC (National Crime Information Center) System,

—Presentation/Discussion on NIST Research and Secure Mobile Devices,

—Panel Discussion on cyber R&D Strategy, and

—Update of NIST Computer Security Division.

Note that agenda items may change without notice because of possible unexpected schedule conflicts of presenters. The final agenda will be posted on the Web site indicated above. Approximately fifteen seats will be available for the public and media. No registration is required to attend this meeting.

Public Participation: The ISPAB agenda will include a period of time, not to exceed thirty minutes, for oral comments from the public (Friday, February 3, 2012, between 8:15 a.m. and 8:45 a.m.). Speakers will be selected on a first-come, first served basis. Each speaker will be limited to five minutes. Members of the public who are interested in speaking are asked to contact Ms. Annie Sokol at the telephone number indicated above.

In addition, written statements are invited and may be submitted to the ISPAB at any time. Written statements should be directed to the ISPAB Secretariat, Information Technology Laboratory, 100 Bureau Drive, Stop 8930, National Institute of Standards and Technology, Gaithersburg, MD 20899-8930.

Dated: December 22, 2011.
Willie E. May,
Associate Director for Laboratory Programs.

[FR Doc. 2011-33278 Filed 12-27-11; 8:45 am]

BILLING CODE 3510-13-P